NUCLEAR REGULATORY COMMISSION

[NRC-2023-0096]

Draft NUREG: Revision to Subsequent License Renewal Guidance Documents, and Supplement to Associated Technical Bases Document

AGENCY: Nuclear Regulatory Commission.

ACTION: Draft report; request for comment.

SUMMARY: The U.S. Nuclear Regulatory Commission (NRC) is issuing for public comment three draft NUREGs that provide revised guidance for subsequent license renewal (SLR) and the associated technical bases for the revised guidance documents. The draft NUREGs consist of draft NUREG-2191, “Generic Aging Lessons Learned for Subsequent License Renewal Report,” Volumes 1 and 2, Revision 1 (GALL-SLR Report); draft NUREG-2192, “Standard Review Plan for Review of Subsequent License Renewal Applications for Nuclear Power Plants,” Revision 1 (SRP-SLR); and draft NUREG-2221, “Technical Bases for Changes in the Subsequent License Renewal Guidance Documents, NUREG-2191, Revision 1, and NUREG-2192, Revision 1,” Supplement 1.

DATES: Submit comments by September 11, 2023. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2023-0096. Address questions about Docket IDs in Regulations.gov to Stacy Schumann; telephone: 301-415-0624; email: Stacy.Schumann@nrc.gov. For technical questions, contact the individuals listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Emmanuel Sayoc, telephone: 301-415-4084; email: Emmanuel.Sayoc@nrc.gov and Carol Moyer, telephone: 301-415-2153; email: Carol.Moyer@nrc.gov. Both are staff of the Office of Nuclear Reactor Regulation at the U.S. Nuclear Regulatory Commission, Washington, DC 20555-0001.

SUPPLEMENTARY INFORMATION:

I. Obtaining Information and Submitting Comments

A. Obtaining Information

Please refer to Docket ID NRC-2023-0096 when contacting the NRC about the availability of information for this action. You may obtain publicly available information related to this action by any of the following methods:

• Federal Rulemaking Website: Go to https://www.regulations.gov and search for Docket ID NRC-2023-0096.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0096 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Section 54.29 of title 10 of the Code of Federal Regulations (10 CFR) establishes the standards for issuance of a renewed license. For nuclear power plants that have received a renewed license, the regulations in 10 CFR 54.31(d) state that “[a] renewed license may be subsequently renewed in accordance with all applicable requirements.” The GALL-SLR Report and SRP-SLR were originally issued in 2017 to provide guidance for subsequent license renewals. The GALL-SLR Report discusses generic aging management reviews of systems, structures, and components (SSCs) that may be within the scope of subsequent license renewal applications (SLRAs) and identifies aging management programs (AMPs) that are determined to be acceptable for managing the effects of aging on SSCs within the scope of license renewal, as required by 10 CFR part 54. If an applicant's SLRA credits an AMP described in the GALL-SLR Report, the applicant should ensure that the conditions and operating experience (OE) at the plant are bounded by the conditions and OE for which the GALL-SLR Report program was evaluated. If these bounding conditions are not met, the applicant should address any additional aging effects and augment the AMPs for subsequent license renewal. If an SLRA references the approach described in the GALL-SLR Report as the approach used for managing the aging effect(s), the NRC staff will use the GALL-SLR Report as a basis for the SLRA assessment, consistent with guidance specified in the SRP-SLR.

The SRP-SLR, which references the GALL-SLR Report, provides guidance to the NRC staff reviewers in the Office of Nuclear Reactor Regulation. These reviewers perform safety reviews of applications to renew nuclear power plant licenses in accordance with 10 CFR part 54.

After the initial issuance of the GALL-SLR Report and SRP-SLR in 2017, several documents referred to as Subsequent License Renewal Interim Staff Guidance (SLR-ISGs) were created to reflect new or updated industry guidance, codes, or standards; relevant plant operating experience; incorporation of lessons learned from completed SLR application reviews; development of new aging management programs or aging management review items; and identification of required corrections and clarifications to the guidance. GALL-SLR Report, Revision 1, and SRP-SLR, Revision 1, incorporate the issued SLR-ISGs. Additional updates were identified subsequent to issuance of the SLR-ISGs, which are also incorporated in the revisions to the GALL-SLR Report and SRP-SLR. The issued SLR-ISGs are listed in the “Availability of Documents” section.

Supplement 1 of the Technical Bases Document is a knowledge management and knowledge transfer document associated with GALL-SLR Report, Revision 1, and SRP-SLR, Revision 1. This supplement details the technical changes that were made in the revisions to the GALL-SLR Report and SRP-SLR and provides the underlying rationale that the NRC staff used for those technical changes.

III. Availability of Documents

The documents identified in the following table are available to interested persons through one or more of the following methods, as indicated.

Document description | Adams accession No.
Draft NUREG-2191, “Generic Aging Lessons Learned for Subsequent License Renewal (GALL-SLR), Draft Report for Comment,” Revision 1, Volume 1 | ML23180A182
Draft NUREG-2191, “Generic Aging Lessons Learned for Subsequent License Renewal (GALL-SLR), Draft Report for Comment,” Revision 1, Volume 2 | ML23180A188
Draft NUREG-2192, “Standard Review Plan for Review of Subsequent License Renewal Applications for Nuclear Power Plants, Draft Report for Comment,” Revision 1 | ML23180A191
Draft NUREG-2221, “Technical Bases for Changes in the Subsequent License Renewal Guidance Documents, NUREG-2191, Revision 1, Draft Report for Comment and NUREG-2192, Revision 1, Draft Report for Comment,” Supplement 1 | ML23180A208
SLR-ISG-2021-01-PWRVI, “Updated Aging Management Criteria for Reactor Vessel Internal Components of Pressurized-Water Reactors” Interim Staff Guidance | ML20217L203
SLR-ISG-2021-02-MECHANICAL, “Updated Aging Management Criteria for Mechanical Portions of Subsequent License Renewal Guidance” Interim Staff Guidance | ML20181A434
SLR-ISG-2021-03-STRUCTURES, “Updated Aging Management Criteria for Structures Portions of Subsequent License Renewal Guidance” Interim Staff Guidance | ML20181A381
SLR-ISG-2021-04-ELECTRICAL, “Updated Aging Management Criteria for Electrical Portions of Subsequent License Renewal Guidance” Interim Staff Guidance | ML20181A395

Dated: July 5, 2023.
For the Nuclear Regulatory Commission.
Michelle W. Hayes,
Chief, Licensing and Regulatory Infrastructure Branch, Division of New and Renewed Licenses, Office of Nuclear Reactor Regulation.

[FR Doc. 2023-14577 Filed 7-10-23; 8:45 am]

BILLING CODE 7590-01-P